DEPARTMENT OF ENERGY

Federal Energy Regulatory Commission

Notice of Effectiveness of Exempt Wholesale Generator Status

| Docket Nos.
AES Pike County Energy Storage, LLC | EG25-1-000
BCE Seal Beach, LLC | EG25-2-000
Wheatsborough Solar, LLC | EG25-3-000
Pluto Energy Storage, LLC | EG25-4-000
Kola Energy Storage, LLC | EG25-5-000
Jackson Fuller Energy Storage, LLC | EG25-6-000
NRG THW GT LLC | EG25-7-000
Morris Solar, LLC | EG25-8-000
Milford Gen Lead, LLC | EG25-9-000
Illinois Winds LLC | EG2510-000
Hummingbird Energy Storage, LLC | EG25-11-000
Azalea Springs Solar Park LLC | EG25-12-000
Duff Solar Park LLC | EG25-13-000
Pleasantville Solar Park LLC | EG25-14-000
Riverstart Solar Park IV LLC | EG25-15-000
Sandrini BESS Storage LLC | EG25-16-000
Peregrine Energy Storage, LLC | EG25-17-000
OneLNG Power LLC | EG25-18-000
Kuna Bess LLC | EG25-19-000
Westside Canal 2A, LLC | EG25-20-000
IN Solar 1, LLC | EG25-21-000
IEP Tejas Verde LLC | EG25-22-000
New Hickory Solar LLC | EG25-23-000

Take notice that during the month of December 2024, the status of the above-captioned entities as Exempt Wholesale Generators became effective by operation of the Commission's regulations. 18 CFR 366.7(a) (2024).

Dated: January 2, 2025.
Debbie-Anne A. Reese,
Secretary.

[FR Doc. 2025-00233 Filed 1-7-25; 8:45 am]

BILLING CODE 6717-01-P